DEPARTMENT OF JUSTICE

Notice of Lodging of Consent Decree Under the Safe Drinking Water and Clean Water Act

Consistent with 28 CFR 50.7, notice is hereby given that on June 6, 2005, a proposed consent decree (“Decree”) in United States v. BP America Production Company, et al., Civil Action No. 05-CV 156J, was lodged with the United States District Court for Wyoming.

In this action, the United States seeks penalties and injunctive relief against BP America Production Company f/k/a Amoco Production Company, CamWest, Inc., and CamWest Limited Partnership under section 1423(b) of the Safe Drinking Water Act and section 309 of the Clean Water Act, based on violations alleged at the Lander and Winkleman Dome Oil Fields in Fremont County, Wyoming, within the exterior boundaries of the Wind River Indian Reservation. The United States has also sought penalties under section 311 of the Clean Water Act as to the CamWest entities. The settlement provides for a series of Supplemental Environmental Projects (“SEPs”) for the benefit of the Eastern Shoshone Tribe and the Northern Arapaho Tribe—the two tribes living at the Wind River Indian Reservation and for CamWest to perform certain injunctive relief. CamWest will pay a civil penalty of $487,352 and contribute $429,621 to the SEPs, for a total of $916,973. BP Amoco will pay a civil penalty of $115,138 and contribute $295,335 towards the SEPs, for a total of $410,473. The total value of this settlement, not including the injunctive relief performed by CamWest, is $1,327,446.

The Department of Justice will receive for a period of thirty (30) days from the date of this publication comments relating to the decree. Comments should be addressed to the Assistant Attorney General, Environment and Natural Resources Division, P.O. Box 7611, U.S. Department of Justice, Washington, DC 20044-7611, and should refer to United States v. BP America Production Company et al., D.J. Ref 90-5-1-1-07294/1, 90-5-1-1-07294.

The decree may be examined at the Office of the United States Attorney, 2120 Capitol Ave., Cheyenne, Wyoming 82001, and at the U.S. Environmental Protection Agency—Region VIII, 999—18th Street, Denver, Colorado 80202-2466. During the public comment, the decree may also be examined on the following Department of Justice Web site, http://www.uddoj.gov/enrd/open.htlm. A copy of the decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $14.50 (not including attachments) (25 cents per page reproduction cost) payable to the U.S. Treasury.

Robert Brook,
Assistant Chief, Environmental Enforcement Section, Environment and Natural Resources Section.

[FR Doc. 05-11851 Filed 6-15-05; 8:45 am]

BILLING CODE 4410-15-M